DEPARTMENT OF TRANSPORTATION

Office of the Secretary

[Docket No. DOT-OST-2009-0121]

Notice of Request for Information Collection Approval

AGENCY: Office of the Secretary, DOT.

ACTION: Notice and requests for comments.

SUMMARY: In accordance with the Paperwork Reduction Act of 1995 (44 U.S.C. 3501 et. seq.), this notice announces that the U.S. Department of Transportation (DOT) has forwarded the Information Collection Request (ICR) abstracted below to the Office of Management and Budget (OMB), for renewal of a currently approved collection. The ICR describes the nature of the information collection and its expected cost and burden hours. OMB approved the form in 2006 with its renewal required by July 31, 2009. The Federal Register Notice with a 60-day comment period soliciting comments on the form renewal was published on May 22, 2009, [74 FR 24061]. No comments were received.

DATES: Comments on this notice must be received by August 31, 2009 and sent to DOT/OST Desk Officer, Office of Information and Regulatory Affairs, Office of Management and Budget, Docket Library, Room 10102, 725 17th Street, NW., Washington, DC 20503.

FOR FURTHER INFORMATION CONTACT: Tami Wright, Associate Director, Compliance Operations Division (S-34), Departmental Office of Civil Rights, Office of the Secretary, U.S. Department of Transportation, 1200 New Jersey Avenue, SE., Washington, DC 20590, 202-366-9370 or (TTY) 202-366-0663.

SUPPLEMENTARY INFORMATION:

Form Title: Individual Complaint of Employment Discrimination (DOT F 1050-8)

OMB Control Number: 2105-0556.

Abstract: DOT will utilize the form to collect information necessary to process Equal Employment Opportunity (EEO) discrimination complaints filed by individuals who are not Federal employees and are applicants for employment with the Department. These complaints are processed in accordance with the Equal Employment Opportunity Commission's regulations, 29 CFR part 1614, as amended. DOT will use the form to: (a) Request requisite information from the applicant for processing his/her EEO employment discrimination complaint; and (b) obtain information to identify an individual or his or her attorney or other representative, if appropriate. An applicant's filing of an EEO employment complaint is solely voluntary. DOT estimates that it takes an applicant approximately one hour to complete the form.

Affected Public: Job applicants filing EEO employment discrimination complaints.

Estimated Number of Respondents: 10.

Estimated Number of Responses: 10.

Annual Estimated Burden: 10 hours.

Frequency of Collection: An applicant's filing of an EEO employment complaint is solely voluntary.

Comments are invited on: (a) Whether the proposed collection of information is reasonable for the proper performance of the EEO functions of the Department, and (b) the accuracy of the Department's estimate of the burden of the proposed information collection, including the validity of methodology and assumptions used; (c) ways to enhance the quality, utility, and clarity of the information to be collected; and (d) ways to minimize the burden of the collection of information on those who are to respond, including the use of appropriate, automated, electronic, mechanical or other technology. Comments should be addressed to the address in the preamble. All responses to this notice will be summarized and included in the request for Office of Management and Budget (OMB) approval. All comments will also become a matter of public record.

Issued in Washington, DC on July 24, 2009.
Patricia Lawton,
DOT Paperwork Reduction Act Clearance Officer, Office of the Chief Information Officer.

[FR Doc. E9-18238 Filed 7-30-09; 8:45 am]

BILLING CODE 4910-9X-P